Proclamation 9150 of July 25, 2014

National Korean War Veterans Armistice Day, 2014

By the President of the United States of America

A Proclamation

More than six decades ago, courageous Americans joined Korean patriots as they defended their right to decide their own fate. They fought through mud, snow, and heavy fire. As they stood firm against the tide of Communism, nearly 37,000 Americans gave their last full measure of devotion. Thanks to all who served and all who died, allied forces pushed invading armies back across the 38th parallel, and on July 27, 1953, they secured a hard-earned victory. On National Korean War Veterans Armistice Day, we honor the men and women who sacrificed so a people they had never met would know the blessings of liberty and security.

Yet our gratitude is not enough. As a Nation, we must do more to keep faith with our veterans and the families that stand with them always. Just as they have done their duty, we must do ours. We will never waver in our commitment to fully account for the captured and the missing, nor will we ever stop striving to give our veterans the care and opportunities they have earned.

As we salute the men and women who made this victory possible, we reflect on the open and prosperous society that is their enduring legacy. The Republic of Korea has risen from occupation and ruin to become one of the world's most vibrant democracies. While carefully defending the peace won 61 years ago, the South Korean people have built an advanced, dynamic economy. Today, the alliance between the United States and the Republic of Korea—forged in war and fortified by common ideals—remains as strong as ever.

This progress was not an accident. It reminds us that liberty and democracy do not come easily; we must win them, tend to them constantly, and defend them without fail. As we mark this anniversary, let us show the full care and support of a grateful Nation to every service member who fought on freedom's frontier.

NOW, THEREFORE, I, BARACK OBAMA, President of the United States of America, by virtue of the authority vested in me by the Constitution and the laws of the United States, do hereby proclaim July 27, 2014, as National Korean War Veterans Armistice Day. I call upon all Americans to observe this day with appropriate ceremonies and activities that honor our distinguished Korean War veterans.

IN WITNESS WHEREOF, I have hereunto set my hand this twenty-fifth day of July, in the year of our Lord two thousand fourteen, and of the Independence of the United States of America the two hundred and thirty-ninth.

[FR Doc. 2014-18164

Filed 7-30-14; 8:45 am]

Billing code 3295-F4